DEPARTMENT OF HEALTH AND HUMAN SERVICES

Administration for Children And Families

[CFDA Number: 93.564]

Announcement of the Award of a Single-Source Expansion Supplement Grant to the Wisconsin Department for Children and Families in Madison, WI

AGENCY: Office of Child Support Enforcement, ACF, HHS

ACTION: Notice of the award of a single-source expansion supplement grant to the Wisconsin Department of Children and Families to support the evaluation of the Child Support Noncustodial Parent Employment Demonstration.

SUMMARY: The Administration for Children and Families (ACF), Office of Child Support Enforcement, Division of Program Innovation announces the award of a cooperative agreement in the amount of $700,000 to the Wisconsin Department for Children and Families in Madison, WI to support the evaluation of the Child Support Noncustodial Parent Employment Demonstration.

In FY 2012, the Office of Child Support Enforcement (OCSE) competitively awarded a cooperative agreement to the Wisconsin Department of Children and Families to conduct a 5-year evaluation of OCSE's national demonstration called Child Support Noncustodial Parent Employment Demonstration (CSPED) under Funding Opportunity Announcement (FOA) number HHS-2012-ACF-OCSE-FD-0537. Under this FOA, a total of $4.5 million of 1115 funds were made available to the Wisconsin Department of Children and Families to conduct this evaluation.

The award of $700,000 the Wisconsin Department of Children and Families is required to cover the unanticipated costs of conducting the CSPED evaluation. The CSPED evaluation includes an impact evaluation using random assignment, an implementation study and a benefit-cost analysis. The evaluator is also providing evaluation-related technical assistance to the grantees implementing CSPED. A baseline and 12 month follow-up survey are being conducted. Administrative data from multiple sources are also being collected and evaluated. A grants management information system was developed for grantees to use to conduct random assignment, enroll individuals into the project, and document service delivery.

DATES: The period of support for this supplement is September 30, 2015 through September 29, 2016.

FOR FURTHER INFORMATION CONTACT: Elaine Sorensen, Office of Child Support Enforcement, 330 C Street SW., Washington, DC 20201. Telephone: 202-401-5099; Email: Elaine.sorensen@acf.hhs.gov.

SUPPLEMENTARY INFORMATION: OCSE originally anticipated that there would be eight implementation sites in the CSPED demonstration and developed the Funding Opportunity Announcement for the evaluation of this demonstration accordingly. However, 8 grantees with 25 implementation sites were approved and awarded funding by OCSE to be part of CSPED under a separate funding announcement (HHS-2012-ACF-OCSE-FD-0297). This expansion of the number of implementation sites in CSPED has increased the costs of conducting the CSPED evaluation. Furthermore, random assignment was delayed in some sites and enrollment has been slower than expected in other sites. These delays have also increased the costs of the CSPED evaluation. Another factor that has increased the costs of the evaluation is that OCSE is using the grants management information system developed for the grantees to monitor their enrollment and service delivery, which requires additional programming and customized reports. Finally, OCSE has asked for an internal memo describing preliminary impact findings which was not included in the FOA.

As a consequences of these unanticipated costs, the $700,000 supplemental grant will be used for the following activities: (1) Conduct the day-to-day operation of the evaluation, including all costs involved in ensuring continued compliance with human subject research requirements; (2) conduct research and analyze information from the multiple implementation sites; (3) conduct the baseline and follow-up surveys; (4) maintain and provide evaluation-related technical assistance to OCSE and the grantees for the grants management information system; and (5) complete an internal memo describing interim impact findings.

Statutory Authority: Section 1115 of the Social Security Act authorizes funds for experimental, pilot, or demonstration projects that are likely to assist in promoting the objectives of Part D of Title IV.

Christopher Beach,
Senior Grants Policy Specialist, Office of Administration.

[FR Doc. 2015-32702 Filed 12-28-15; 8:45 am]

BILLING CODE 4184-42-P